DEPARTMENT OF TRANSPORTATION

Federal Aviation Administration

Notice of Availability of the Final Programmatic Environmental Assessment and Mitigated Finding of No Significant Impact/Record of Decision for the SpaceX Starship/Super Heavy Launch Vehicle Program at the SpaceX Boca Chica Launch Site in Cameron County, Texas

AGENCY: Federal Aviation Administration (FAA), Department of Transportation (DOT).

ACTION: Notice of availability.

SUMMARY: In accordance with the National Environmental Policy Act of 1969, as amended (NEPA), Council on Environmental Quality NEPA-implementing regulations, and FAA Order 1050.1F, Environmental Impacts: Policies and Procedures, the FAA is announcing the availability of the Final Programmatic Environmental Assessment and Mitigated Finding of No Significant Impact/Record of Decision for the SpaceX Starship/Super Heavy Launch Vehicle Program at the SpaceX Boca Chica Launch Site (Final PEA and Mitigated FONSI/ROD).

FOR FURTHER INFORMATION CONTACT: Amy Hanson, Environmental Protection Specialist, Federal Aviation Administration, 800 Independence Avenue SW, Suite 325, Washington, DC 20591; phone (202) 243-7609; email Amy.Hanson@faa.gov.

SUPPLEMENTARY INFORMATION: The FAA is the lead agency. The National Aeronautics and Space Administration, National Park Service, U.S. Coast Guard, U.S. Army Corps of Engineers, and U.S. Fish and Wildlife Service are cooperating agencies due to either their special expertise and/or jurisdiction. The FAA is evaluating SpaceX's proposal to conduct Starship/Super Heavy launch operations at its existing Boca Chica Launch Site in Cameron County, Texas. The proposal requires SpaceX to obtain an experimental permit and/or a vehicle operator license from the FAA. Under the Proposed Action, the FAA would issue an experimental permit(s) and/or vehicle operator license to SpaceX, which would authorize SpaceX to conduct Starship/Super Heavy launch operations at the Boca Chica Launch Site. Launch operations include launch vehicle landings at the Boca Chica Launch Site, in the Gulf of Mexico, or in the Pacific Ocean.

The Final PEA evaluated the potential environmental impacts of the Proposed Action and the No Action Alternative. Under the No Action Alternative, the FAA would not issue new experimental permits or licenses to SpaceX for any test or launch operations at the Boca Chica Launch Site. SpaceX's non-licensed production and manufacturing would continue at its existing facilities and infrastructure would expand at its production facility. Non-licensed testing operations, including tank tests and static fire engine tests, would also continue at the existing Vertical Launch Area. In addition, SpaceX could conduct missions of the Starship prototype launch vehicle as authorized by the current license (LRLO 20-119). The current license expires on May 27, 2023. This alternative provides the basis for comparing the environmental consequences of the Proposed Action.

The FAA published a Draft PEA for public comment on September 17, 2021. The public comment period ended on November 1, 2021. The PEA was revised based on public comments, and the Final PEA includes responses to comments. The FAA has posted the Final PEA and Mitigated FONSI/ROD on the FAA Office of Commercial Space Transportation website: https://www.faa.gov/space/stakeholder_engagement/spacex_starship/.

Issued in Washington, DC, on June 10, 2022.
Stacey M. Zee,
Manager, Operations Support Branch, Office of Commercial Space Transportation.

[FR Doc. 2022-12888 Filed 6-14-22; 8:45 am]

BILLING CODE 4910-13-P